ENVIRONMENTAL PROTECTION AGENCY

[FRL-9996-30-OMS]

Privacy Act of 1974; System of Records

AGENCY: Office of Mission Support, Environmental Protection Agency (EPA).

ACTION: Notice of modification of system of records.

SUMMARY: The Environmental Protection Agency (EPA) is revamping and renaming the Office of Criminal Enforcement Forensics and Training's (OCEFT) recordkeeping system for criminal cases. The back-end technology and user interface software are new, but the entirety of the content of OCEFT's current system, EPA 17, Criminal Investigative Files and Index, is being retained in the modified and renamed system. The new name of the modified system EPA-17 is “Online Criminal Enforcement Activities Network (OCEAN).” In addition, EPA is adding to the current system contents, a category of records related to EPA Criminal Investigation Division, National Capital Area Office (NCAO)'s, protective service detail responsibilities regarding threat information received by the Agency. The EPA-17 exemption from certain Privacy Act provisions applies as well to this new category of threat information records.

DATES: Persons wishing to comment on this system of records notice must do so by September 3, 2019. New or Modified routine uses for this modified system of records will be effective September 3, 2019.

ADDRESSES: Submit your comments, identified by Docket ID No OMS-2019-0094, by one of the following methods:

Regulations.gov: www.regulations.gov Follow the online instructions for submitting comments.

Email: oei.docket@epa.gov.

Fax: 202-566-1752.

Mail: OEI Docket, Environmental Protection Agency, Mailcode: 2822T, 1200 Pennsylvania Ave. NW, Washington, DC 20460.

Hand Delivery: OEI Docket, EPA/DC, WJC West Building, Room 3334, 1301 Constitution Ave. NW, Washington, DC. Such deliveries are only accepted during the Docket's normal hours of operation, and special arrangements should be made for deliveries of boxed information.

Instructions: Direct your comments to Docket ID No. OMS-2019-0094. The EPA's policy is that all comments received will be included in the public docket without change and may be made available online at www.regulations.gov, including any personal information provided, unless the comment includes information claimed to be Controlled Unclassified Information (CUI) or other information for which disclosure is restricted by statute. Do not submit information that you consider to be CUI or otherwise protected through www.regulations.gov. The www.regulations.gov website is an “anonymous access” system for EPA, which means the EPA will not know your identity or contact information unless you provide it in the body of your comment. Each agency determines submission requirements within their own internal processes and standards. EPA has no requirement of personal information. If you send an email comment directly to the EPA without going through www.regulations.gov your email address will be automatically captured and included as part of the comment that is placed in the public docket and made available on the internet. If you submit an electronic comment, the EPA recommends that you include your name and other contact information in the body of your comment. If the EPA cannot read your comment due to technical difficulties and cannot contact you for clarification, the EPA may not be able to consider your comment. Electronic files should avoid the use of special characters, any form of encryption, and be free of any defects or viruses. For additional information about the EPA's public docket visit the EPA Docket Center homepage at http://www.epa.gov/epahome/dockets.htm.

Docket: All documents in the docket are listed in the www.regulations.gov index. Although listed in the index, some information is not publicly available, e.g., CUI or other information for which disclosure is restricted by statute. Certain other material, such as copyrighted material, will be publicly available only in hard copy. Publicly available docket materials are available either electronically in www.regulations.gov or in hard copy at the OEI Docket, EPA/DC, WJC West Building, Room 3334, 1301 Constitution Ave. NW, Washington, DC. The Public Reading Room is open from 8:30 a.m. to 4:30 p.m., Monday through Friday excluding legal holidays. The telephone number for the Public Reading Room is (202) 566-1744, and the telephone number for the OEI Docket is (202) 566-1752.

FOR FURTHER INFORMATION CONTACT: Eric Blank, Senior Technical Information Specialist, Operations Branch, Criminal Investigations Division, Office of Criminal Enforcement, Forensics and Training, Environmental Protection Agency, 1200 Pennsylvania Ave. NW (Mail Code 2232A), Washington, DC 20004; blank.eric@epa.gov (202-566-0656).

SUPPLEMENTARY INFORMATION: Purpose of recordkeeping system is to update the backend technology, increase capacity to store and maintain large documents (such as high definition photos and recordings), improve user-interface, and manage criminal case and Protective Service Detail records. The current system's software is out of date and requires modernization to improve user friendliness and efficiency, and expanded capacity, which the new software will provide. The current system's record content will be managed by the modified system, but in addition the modified system will contain records of and related to threats of harm against senior EPA officials and their family members, received by EPA and handled by OCEFT's Protect Services Detail (“PSD records”). The purpose of the expanded record content is to provide a central and accessible electronic recordkeeping location for such PSD records. The purpose of the software update is to modernize and improve the current electronic recordkeeping system, called the Criminal Investigative Index and Files, or Case Reporting System (CCRS).

SYSTEM NAME AND NUMBER: EPA 17

Online Criminal Enforcement Activities Network (OCEAN).

SECURITY CLASSIFICATION:

Unclassified.

SYSTEM LOCATION:

EPA Office of Criminal Enforcement, Forensics and Training, 1200 Pennsylvania Avenue NW, Washington, DC 20004. Access to records is also available to authorized EPA personnel at the field offices of the OCEFT Criminal Investigation Division, listed in the Appendix to this Notice.

SYSTEM MANAGER(S):

Eric Blank, Senior Technical Information Specialist, Operations Branch, Criminal Investigations Division, Office of Criminal Enforcement, Forensics and Training, Environmental Protection Agency, 1200 Pennsylvania Ave. NW (Mail Code 2232A), Washington, DC 20004; blank.eric@epa.gov (202-566-0656)

AUTHORITY FOR MAINTENANCE OF THE SYSTEM:

18 U.S.C. 3063; Comprehensive Environmental Response, Compensation and Liability Act, 42 U.S.C. 9601 et seq.; Solid Waste Disposal Act (a.k.a., Resource Conservation and Recovery Act), 42 U.S.C. 6901 et seq.; Federal Water Pollution Control Act (a.k.a., Clean Water Act), 33 U.S.C. 1251 et seq.; Toxic Substances Control Act, 15 U.S.C. 2601 et seq.; Clean Air Act, 42 U.S.C. 7401 et seq.; Federal Insecticide, Fungicide and Rodenticide Act, 7 U.S.C. 136 et seq.; Public Health Service Act (a.k.a., Safe Drinking Water Act), 42 U.S.C. 300f et seq.; Emergency Planning and Community Right-To-Know Act of 1986, 42 U.S.C. 11001 et seq.; and the Marine Protection, Research, and Sanctuaries Act of 1972 (a.k.a., Ocean Dumping Act), 33 U.S.C. 1401 et seq.; Crimes and Criminal Procedure, 18 U.S.C. 1 et seq.

PURPOSE(S) OF THE SYSTEM:

1. To support, further, and document the investigation of persons or organizations alleged to have criminally violated any environmental statute or regulation, or to have violated other federal statutes in conjunction with such environmental violations.

2. In addition, to facilitate protection of EPA's Administrator, the system will include information on individuals or entities that threaten physical harm to the EPA Administrator, other agency senior officials, or their family members, in violation of federal criminal statutes. All lead information on threats will be referred to the Office of Inspector General (OIG), which is responsible for the investigation of threats against EPA personnel.

CATEGORIES OF INDIVIDUALS COVERED BY THE SYSTEM:

1. (a) Subjects of investigations about whom data has been collected by criminal investigators of the Office of Criminal Enforcement, Forensics and Training, Criminal Investigation Division, and assembled in the form of investigative reports concerning violations of federal criminal statutes; and (b) persons who have made threats of physical harm to the EPA Administrator, other senior agency officials, or their family members (this information will also be referred to the Office of Inspector General).

2. Persons who provide information and evidence used to substantiate environmental criminal violations or threats of physical harm to the EPA Administrator, other senior agency officials, or their family members.

3. OCEFT criminal investigators and other governmental personnel who participate in investigations, such as EPA Regional Criminal Enforcement Counsel (RCECs); Assistant U.S. Attorneys (AUSAs) and other trial attorneys of the Department of Justice; federal criminal investigators of partner federal agencies, such as the Federal Bureau of Investigations (FBI); and criminal investigators or prosecutors of partner state criminal law enforcement agencies.

CATEGORIES OF RECORDS IN THE SYSTEM:

1. Investigative Case Management System. The Online Criminal Enforcement Activities Network contains selected information from the criminal investigative files. Such information includes, name, address, telephone number; prior/secondary residences, vehicle information, associated persons (name and role), driver's licenses/aliases, associated companies (name and role), identifying numbers (number type, number and brief description; including Social Security Number, Passport number, Immigration ID number, US Marshall Service number, State ID number, etc.), corporate data (company name, address, telephone number), corporate vehicle information, corporate identifying numbers, case information (e.g., case opened, date referred to EPA), criminal investigator comments, name and office of criminal investigator, dissemination information (e.g., which other agency requested the information), and other related investigative information.

2. Investigative Files. The investigative files housed within OCEAN contain all information relating to an investigative matter which can be stored electronically. In addition to the information contained in the computerized case management system, the investigative files contain, but are not limited to, correspondence (case coordination reports, memos of conversation, and other records of communication relating to the investigation), interviews (witness interview statements generated by either an OCEFT/CID special agent or another agency or person), regulatory history (permits and reports generated as a result of normal program activity), technical support (program reports generated as a result of the investigation), investigative notes, electronic monitoring (reports requesting permission and use, transcripts of tapes), records checks (personal history, police information, fingerprint cards, photographs), property reports, electronic copies or images of property or physical evidence obtained and retained by OCEFT/CID including documents personal property and electronic evidence, manifests and other related investigative information and open source online information.

3. Threat Information. All information related to any individuals or entities that threaten physical harm to the EPA Administrator, senior agency officials, or their family members, in violation of federal criminal statutes. In addition to the information contained in the computerized case management system, the investigative leads files may contain, but are not limited to, digital copies or transcripts of the subject threat, witness statements, records checks (personal history, police information, fingerprint cards, photographs), property reports, electronic copies or images of property obtained and retained by OCEFT/CID including documents, personal property and electronic evidence and other related information, open source online information, investigative reports and other information received from other law enforcement agencies and the EPA OIG.

4. Case Management System. The Online Criminal Enforcement Activities Network is the computerized management information system for the Criminal Investigation Division, which reflects the activity and productivity of individual agents and each OCEFT/CID office. It is also the primary source for assembling statistical data for OCEFT/CID. The Online Criminal Enforcement Activities Network contains the OCEFT/CID case number, the case name, the most recent investigative or prosecutorial activity, the involved environmental media and environmental statutes, government employees involved in the investigation, case status and case closure codes. The case name may be either a company name or the name of a person that denotes the subject of the investigation.

RECORD SOURCE CATEGORIES:

EPA employees and officials, employees of Federal contractors, employees of other Federal agencies and of state, local, tribal, and foreign agencies, witnesses, informants, public source materials, and other persons who may have information relevant to OCEFT/CID investigations.

ROUTINE USES OF RECORDS MAINTAINED IN THE SYSTEM, INCLUDING CATEGORIES OF USERS AND PURPOSES OF SUCH USES:

The following new routine uses apply to this system because the use of the record is necessary for the efficient conduct of government operations. The routine uses are related to and compatible with the original purpose for which the information was collected. General Routine Uses A, C, D, E, F, G, H, and K apply to this system (73 FR 2245). Records may also be disclosed:

1. To a potential source of information to the extent necessary to elicit information or to obtain cooperation of that source in furtherance of an EPA criminal investigation or protective service detail investigation.

2. To the Department of Justice for consultation about what information and records are required to be publicly released under federal law.

3. To a federal agency in response to a valid subpoena.

4. To Federal and state government agencies responsible for administering suspension and debarment programs.

5. To international law enforcement organizations if the information is relevant to a violation or potential violation of civil or criminal law or regulation within the jurisdiction of the organization or a law enforcement agency that is a member of the organization.

6. To the news media and public unless it is determined that the release of the specific information in the context of a particular case would constitute an unwarranted invasion of privacy.

7. To any person if the EPA determines that compelling circumstances affecting human health, the environment, property, or personal safety warrant the disclosure.

8. In connection with criminal prosecution or plea negotiations to the extent that disclosure of the information is relevant and necessary to the prosecution or negotiation and except where court orders are otherwise required under section (b)(11) of the Privacy Act of 1974, 5 U.S.C. 552a(b)(11).

9. To the Office of Inspector General, which is responsible for investigating threats to the Administrator and other agency officials.

10. To appropriate agencies, entities, and persons when (1) the Agency suspects or has confirmed that there has been a breach of the system of records; (2) the Agency has determined that as a result of the suspected or confirmed breach there is a risk of harm to individuals, the Agency (including its information systems, programs, and operations), the Federal Government, or national security; and (3) the disclosure made to such agencies, entities, and persons is reasonably necessary to assist in connection with the Agency's efforts to respond to the suspected or confirmed breach or to prevent, minimize, or remedy such harm.

11. To another Federal agency or Federal entity, when the Agency determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

The EPA OCEFT currently stores and manages records related to environmental and related non-environmental criminal investigations in a centralized electronic recordkeeping system, EPA 17, Criminal Investigative Index and Files. This computer recordkeeping system, and the modified system that will replace it (OCEAN), involve the “cloud” storage of electronic records obtained or created by OCEFT criminal investigators.

POLICIES AND PRACTICES FOR RETRIEVAL OF RECORDS:

Files are assigned a case file number and records are maintained in numerical order in a web-based computer system with access controls. Access to records is obtained by entering user IDs and passwords then conducting computer database searches using relevant search terms and software programs. The system also allows for printing of records. Information on individuals may be retrieved through the computer case management system which can use, among other things, case titles, the names of individuals, organization names, driver's license numbers, vehicle or tag or vehicle identification numbers and other identifying numbers.

POLICIES AND PRACTICES FOR RETENTION AND DISPOSAL OF RECORDS:

Retention and Disposal: The manner of Retention and Disposal of the Online Criminal Enforcement Activities Network and files will mirror the current disposition of electronic records in the OCEFT Criminal Investigation Index and Files system (EPA-17), known as the Criminal Case Report System, or (CCRS) under EPA Records Schedule 684. These records are scheduled as permanent retention.

ADMINISTRATIVE, TECHNICAL, AND PHYSICAL SAFEGUARDS:

Computer records are maintained in a secure, password protected computer system. All records are maintained in secure, access-controlled websites. The case management system maintains a user log that identifies and records persons who access and use the system. Computer-stored information is protected in accordance with the Agency's security requirements. No unauthorized individuals may access the physical equipment on which the system resides. Accounts can only be created by the system administrator or assistant system administrators.

RECORD ACCESS PROCEDURES:

To the extent permitted under the Privacy Act of 1974, 5 U.S.C. 552a(j)(2) or (k)(2), this system has been exempted from the provisions of the Privacy Act of 1974 that permit access and correction. See, 40 CFR 16.11 and 16.12. These same authorities and exemptions also apply to the threat information to be held by the modified system. Exemptions from access may be complete or partial, depending on the applicable exemption. However, EPA may, in its discretion, grant individual requests for access and correction if it determines that the exercise of these rights will not interfere with an interest that the exemption is intended to protect.

CONTESTING RECORD PROCEDURES

Pursuant to the authorities set out in 40 CFR 16.11 and 16.12, exempting federal criminal investigatory agencies from specified provisions of the Privacy Act, individuals do not have the opportunity to decline to provide information to, or to opt out of the collection or sharing of their information by OCEFT criminal investigators. These same authorities and exemptions also apply to the threat information to be held by the OCEAN system. The EPA's procedures for making a Privacy Act request can be found in EPA's Privacy Act regulations at 40 CFR part 16.

NOTIFICATION PROCEDURE:

Requests for correction or amendment must identify the record to be changed and the corrective action sought. Complete EPA Privacy Act procedures are set out in 40 CFR part 16.

EXEMPTIONS PROMULGATED FOR THE SYSTEM:

Pursuant to 5 U.S.C. 552a(j)(2) this system is exempt from the following provisions of the Privacy Act: 5 U.S.C. 552a(c)(3) and (4); (d); (e)(1), (e)(2), (e)(3), (e)(4)(G), (e)(4)(H), (e)(5) and (e)(8); (f)(2) through (5); and (g). Pursuant to 5 U.S.C. 552a(k)(2), this system is exempt from the following provisions of the Privacy Act, subject to the limitations set forth in that subsection: 5 U.S.C. 552a(c)(3), (d), (e)(1), (e)(4)(G), (e)(4)(H), and (f)(2) through (5). See, 40 CFR 16.11 and 16.12.

HISTORY:

71 FR 234—January 4, 2006—Republication of Exempted System of Records (EPA-17)

66 FR 49947—October 1, 2001—Creation of the OCEFT/NEIC Master Tracking System of Records (EPA-46)

Appendix to Online Criminal Enforcement Activities Network

Criminal Investigation Division offices where system records may be accessed online:

• Boston Area Office, EPA/Criminal Investigation Division, 5 Post Office Square, Suite 100, 15th Floor, Boston, Massachusetts 02109-3912

• New York Area Office, EPA/Criminal Investigation Division, 290 Broadway (2C100), Room 1551, New York, New York 10007-1866

• Buffalo Resident Office, EPA/Criminal Investigation Division, 138 Delaware Avenue, Room 525, Buffalo, New York 14202

• Syracuse Domicile Office, EPA/Criminal Investigation Division, 441 S. Salina Street, 6th Floor, Box 349, Syracuse, New York 13202

• Philadelphia Area Office, EPA/Criminal Investigation Division, 1650 Arch Street (3CE00), Philadelphia, Pennsylvania 19103-2029

• Baltimore Resident Office, EPA/Criminal Investigation Division, 701 Mapes Road, Suite E230, Environmental Science Center, Fort George G. Meade, Maryland 20755-5350

• Atlanta Area Office, EPA/Criminal Investigation Division, 61 Forsyth Street, Suite 16T90, Sam Nunn Atlanta Federal Center, Atlanta, Georgia 30303

• Tampa Resident Office, EPA/Criminal Investigation Division, 2203 N Lois Avenue, Suite 815, Tampa, Florida 33607

• Miami Resident Office, EPA/Criminal Investigation Division, 909 SE First Avenue, Suite 700, Brickell Plaza Federal Building, Miami, FL 33131

• Nashville Domicile Office, EPA/Criminal Investigation Division, 801 Broadway, Suite 312, Nashville, Tennessee 37203

• Chicago Area Office, EPA/Criminal Investigation Division, 77 West Jackson, Chicago, Illinois 60604

• Dallas Area Office, EPA/Criminal Investigation Division, Fountain Place, 1445 Ross Avenue, (6CID), Suite 1200, Dallas, Texas 75202-2733

• Houston Resident Office, EPA/Criminal Investigation Division, 1919 Smith Street, Suite 9004, Houston, Texas 77002-8049

• Kansas City Area Office, EPA/Criminal Investigation Division, 11201 Renner Blvd., Lenexa, Kansas 66219

• St. Louis Resident Office, EPA/Criminal Investigation Division, 1222 Spruce Street, Room 2.102G, Robert A. Young Federal Building, St. Louis, Missouri 63103

• Denver Area Office, EPA/Criminal Investigation Division, 1595 Wynkoop Street, Denver, Colorado 80202-1129

• San Francisco Area Office, EPA/Criminal Investigation Division, 75 Hawthorne St., 8th Floor, San Francisco, California 94105-3901

• Los Angeles Resident Office, EPA/Criminal Investigation Division, 600 Wilshire Boulevard, Suite 900, Los Angeles, CA 90017-3212

• Phoenix Domicile Office, EPA/Criminal Investigation Division, Sandra Day O'Connor Federal Building, 401 W Washington St., SPC #9, Suite 415, Phoenix, Arizona 85003

• Seattle Area Office, EPA/Criminal Investigation Division, 1200 Sixth Avenue, Suite 155, Seattle, Washington 98101-3140

• Portland Resident Office, EPA/Criminal Investigation Division, 805 SW Broadway, Suite 620, Portland, Oregon 97204

Dated: May 3, 2019.
Vaughn Noga,
Senior Agency Official for Privacy.

[FR Doc. 2019-16565 Filed 8-1-19; 8:45 am]

BILLING CODE 6560-50-P